DEPARTMENT OF HEALTH AND HUMAN SERVICES

National Institues of Health

[CHIS-CAM]

Submission for OMB Review; Comment Request California Health Interview Survey—Complementary and Alternative Medicine [CHIS-CAM]

SUMMARY: Under the provisions of Section 3507(a)(1)(D) of the Paperwork Reduction Act of 1995, the National Cancer Institute (NCI), the National Institutes of Health (NIH) has submitted to the Office of Management and Budget (OMB) a request for review and approval of the information collection listed below. This proposed information collection was previously published in the Federal Register on January 22, 2002, pages 2892-2893 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: California Health Interview Survey—Complementary and Alternative Medicine (CHIS-CAM). Type of Information Collection Request: New. Need and Use of Information Collection. The NCI has sponsored a Cancer Control Topical Module (CCTM) to the California Health Interview Survey (CHIS), administered in 2001. The CHIS is a telephone survey designed to provide population-based, standardized health-related data. Initiated by the USLA Center for Health Policy Research, California Department of Health Services, and the Public Health Institute, the survey was funded by a number of public and private sources.

The 2001 CHIS CCTM was similar in content to the 2000 National Health Interview Survey (NHIS) CCTM and was administered to one sample adult in more than 54,000 households. NCI anticipates comparing the CHIS and NHIS data in order to conduct comparative and pooled analyses that will enable better estimates of health-related behaviors and cancer risk factors for smaller racial/ethnic minority populations.

The CHIS-CAM is a cross-sectional telephone survey nested in the CHIS study population of all adult respondents who agreed to be re-contacted. Complementary and Alternative Medicine (CAM) is a rapidly growing component of prevention and treatment of chronic illness in the United States. Yet the study of cancer has been largely excluded from the existing population-based surveys on CAM due to sample size restrictions, and little reliable information exists on how CAM utilization varies among different ethnic groups and among those with chronic illnesses.

The CHIS-CAM survey will be administered to approximately 2,000 cancer survivors and 6,000 non-cancer adults. It will enable NCI to collect extensive information on CAM, cancer and other chronic illnesses, and link it with the breadth of basic data already collected from the large, racially and ethnically diverse sample of CHIS respondents.

Comprehensive and detailed collection of information on CAM will enable NCI to increase its understanding of how, why, and to what effect CAM is used. The CHIS-CAM survey data will allow NCI to compare individuals who report various types of cancer and other chronic conditions and to determine: (1) The major categories of CAM procedures being used, as well as the specific therapies targeted toward cancer prevention and treatment, (2) how various subgroups in the population (defined by race/ethnicity, gender, age, health status, etc.) compare with regards to CAM procedures being used; (3) to what extent persons with cancer used specific types of CAM before or after diagnoses with cancer, and whether cancer patients used CAM in place of, or in addition to, conventional medical care; (4) whether systematic CAM treatments for cancer might lead to harm or interact with conventional treatments for cancer; and (5) what expenditures people are paying out-of-pocket for CAM procedures. Frequency of Response. One-time. Affected public: Individuals. Type of Respondents: U.S. adults. The annual reporting burden is as follows:

Table A.—Annualized Burden Estimates for CHIS-CAM Data Collection
Type of respondents | Estimated number of respondents | Estimated No. of responses per respondent | Average burden hours per response | Estimated total annual burden hour requested
U.S. Adults | 8,000 | 1 | .35 | 2,800

There is no annualized cost to respondents. There are no Capital Costs to report. There are no Operating or Maintenance Costs to report.

Request for Comments: Written comments and/or suggestions from the public and affected agencies are invited on one or more of the following points: (1) Whether the proposed collection of information is necessary for the proper performance of the functions of the agency, including whether the information will have practical utility; (2) The accuracy of the agency's estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in the notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact Anita Boulevard, Bethesda Maryland 20892-7344, or call non-toll free number (301) 451-8500 or email your request, including your address to ambsa@mail.nih.gov.

Comments Due Date: Comments regarding this information collection are best assured of having their full effect if received within 30 days from the date of this publication.

Dated: July 24, 2002.
Reesa L. Nichols,
NCI Project Clearance Liaison.

[FR Doc. 02-19272 Filed 7-30-02; 8:45 am]

BILLING CODE 4140-01-M